DEPARTMENT OF COMMERCE

International Trade Administration

[C-549-834]

Citric Acid and Certain Citrate Salts From Thailand: Notice of Postponement of Preliminary Determination in the Countervailing Duty Investigation

AGENCY: Enforcement and Compliance, International Trade Administration, Department of Commerce.

DATES: Effective August 15, 2017.

FOR FURTHER INFORMATION CONTACT: John Conniff, AD/CVD Operations, Office III, Enforcement and Compliance, International Trade Administration, U.S. Department of Commerce, 1401 Constitution Avenue NW., Washington, DC 20230; telephone 202-482-1009.

SUPPLEMENTARY INFORMATION:

Background

On June 22, 2017, the Department of Commerce (the Department) initiated the countervailing duty investigation of citric acid and certain citrate salts from Thailand.¹ Currently, the preliminary determination is due no later than August 28, 2017.² On August 1, 2017, in accordance with section 703(c)(1)(A) of the Tariff Act of 1930, as amended (the Act), and 19 CFR 351 205(b)(2), the petitioners requested that the Department postpone and fully extend the deadline for the preliminary determination.³

¹ See Citric Acid and Certain Citrate Salts from Thailand: Initiation of Countervailing Duty Investigation, 82 FR 29836, 29840 (June 30, 2017).

² The actual deadline is August 26, 2017, which is a Saturday. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

³ The petitioners are Archer Daniels Midland Company, Cargill, Incorporated, and Tate & Lyle Ingredients Americas LLC (the petitioners).

Postponement of Due Date for Preliminary Determination

Section 703(b)(1) of the Act requires the Department to issue the preliminary determination in a countervailing duty investigation within 65 days after the date on which the Department initiated the investigation. However, the Department may, at the petitioners' timely request, postpone the preliminary determination until no later than 130 days after the date on which the administering authority initiated the investigation. See section 703(c)(1)(A) of the Act.

The petitioners' request for the Department to fully postpone the deadline for the preliminary determination was timely filed 25 days before the scheduled date of the preliminary determination, pursuant to 19 CFR 351.205(e).⁴ Therefore, for the reasons stated above and because there are no compelling reasons to deny the request, in accordance with section 703(c)(1)(A) of the Act and 19 CFR 351.205(b)(2), we are fully extending the due date for the preliminary determination to no later than 130 days after the date on which the investigation was initiated. The deadline for completion of the preliminary determination is now October 30, 2017.

⁴ See Petitioners' August 1, 2017, letter to the Department, “Countervailing Duty Investigation of Citric Acid and Certain Citrate Salts from Thailand: Petitioners' Request For Postponement of the Preliminary Determination.”

This notice is issued and published pursuant to section 703(c)(2) of the Act.

Dated: August 8, 2017.
Gary Taverman,
Deputy Assistant Secretary for Antidumping and Countervailing Duty Operations performing the non-exclusive functions and duties of the Assistant Secretary for Enforcement and Compliance.

[FR Doc. 2017-17198 Filed 8-14-17; 8:45 am]

BILLING CODE 3510-DS-P